DEPARTMENT OF DEFENSE

Air Force

Notice of Intent To Prepare a Legislative Environmental Impact Statement for the Nevada Test and Training Range Military Land Withdrawal at Nellis Air Force Base, Nevada

AGENCY: United States Air Force (lead agency) and Bureau of Land Management, United States Department of Energy, United States Fish and Wildlife Service, and Nevada Department of Wildlife (cooperating agencies)

ACTION: Notice of Intent

SUMMARY: The United States Air Force (Air Force) is issuing this notice to notify the public of its intent to prepare a Legislative Environmental Impact Statement (LEIS) for the Nevada Test and Training Range (NTTR) military land withdrawal at Nellis Air Force Base, Nevada. The LEIS is being prepared in accordance with National Environmental Policy Act (NEPA) of 1969; 40 Code of Federal Regulations (CFR), Parts 1500-1508, the Council on Environmental Quality (CEQ) regulations for implementing NEPA; and the Air Force Environmental Impact Analysis Process (EIAP) [32 CFR part 989].

This notice also serves to invite early public and agency participation in determining the scope of environmental issues and alternatives to be analyzed in the LEIS and to identify and eliminate from detailed study the issues which are not significant. To effectively define the full range of issues and concerns to be evaluated in the LEIS, the Air Force is soliciting scoping comments from interested local, state and federal agencies, interested American Indian tribes, and interested members of the public. This NOI also serves to provide early notice of compliance with Executive Order (EO) 11990, “Protection of Wetlands” and EO 11988, “Floodplain Management.” State and federal regulatory agencies with special expertise in wetlands and floodplains have been contacted to request comment.

Scoping comments may be submitted to the Air Force at the planned public scoping meetings and/or in writing.

DATES: The Air Force plans to hold five public scoping meetings from 5 p.m. to 9 p.m., on the dates and at the locations listed below.

• Wednesday, October 12, 2016: Beatty Community Center, 100 A Avenue South, Beatty, NV 89003

• Thursday, October 13, 2016: Tonopah Convention Center, 301 Brougher Avenue, Tonopah, NV 89049

• Tuesday, October 18, 2016: Caliente Elementary School, 289 Lincoln Street, Caliente, NV 89008

• Wednesday, October 19, 2016: Pahranagat Valley High School, 151 S. Main Street, Alamo, NV 89001

• Thursday, October 20, 2016: Aliante Hotel, 7300 Aliante Parkway, North Las Vegas, NV 89084

The agenda for each scoping meeting is as follows:

• 5:00 p.m. to 6:30 p.m.—Open House and comment submission

• 6:30 p.m. to 7:00 p.m.—Air Force Presentation

• 7:00 p.m. to 9:00 p.m.—Open House and comment submission resumes

Local notices announcing scheduled dates, locations, and addresses for each meeting will be published in the Bullseye, Pahrump Valley Times, Lincoln County Record, Tonopah Times-Bonanza, and Las Vegas Review-Journal newspapers a minimum of fifteen (15) days prior to each meeting.

Comments will be accepted at any time during the Environmental Impact Analysis Process (EIAP). However, to ensure the Air Force has sufficient time to consider public input in the preparation of the Draft LEIS, scoping comments must be submitted no later than December 10, 2016.

ADDRESSES: Information on the NTTR Military Land Withdrawal and LEIS process can be accessed at the project Web site at www.nttrleis.com. The project Web site can be used to submit scoping comments to the Air Force, or comments and inquiries may also be submitted by mail or email to the 99th Air Base Wing Public Affairs, 4430 Grissom Ave., Ste. 107, Nellis AFB, NV 89191 or by email at 99ABW.PAOutreach@us.af.mil.

SUPPLEMENTARY INFORMATION: The current NTTR land withdrawal expires in November, 2021. In accordance with the Military Lands Withdrawal Act of 1999, the Air Force has notified Congress of a continuing military need for the NTTR withdrawal. Military land withdrawal applications have been prepared and submitted to Bureau of Land Management (BLM). The segregation of lands proposed for military withdrawal are addressed in a separate BLM Federal Register notice.

The Air Force LEIS supports Congressional decision-making for the proposed military land withdrawal and will be programmatic in nature, adding value by setting out a broad view of environmental impacts and alternatives for Congress to consider. Following Congressional action on the NTTR land withdrawal proposals, site specific proposals based on particular DoD or Air Force defined needs for the range would be evaluated with the appropriate level of tiered or supplemental NEPA.

In particular, the LEIS will analyze alternatives for military land withdrawal of the NTTR to improve the range capacity and capability to support military test and training requirements now and into the future. The LEIS will assess the potential environmental consequences of the proposal to extend the existing NTTR military land withdrawal beyond the current withdrawal expiration date. As part of the withdrawal extension, the Air Force proposes to continue military operations on the NTTR's existing 2,949,603 acres of land. In addition to extending the existing land withdrawal, the Air Force is also proposing to withdraw up to an additional 301,507 acres to improve the range's capacity to support military testing and training.

The alternatives being evaluated in the LEIS include: (1) Extending the existing land withdrawal and management of the NTTR (Status Quo); (2) extending the existing land withdrawal and providing the Air Force with increased access for military activities in the South Range of the NTTR; (3) Alternative 1 or 2 and expanding the existing withdrawal by including up to 301,507 additional acres, via three sub-alternatives; (4) establishing the time period of the withdrawal as either 20 years, 50 years, or as an indefinite military withdrawal; and (5) the No Action alternative which includes returning NTTR lands to the public domain, through the Department of the Interior. The alternatives structure allows for combining elements of alternatives in an additive fashion. For example, Alternative 2, could be selected along with sub-alternatives of Alternatives 3 (an option for expansion) and 4 (option for duration) as part of the Air Force's recommendation to Congress for the future military withdrawal. Within the framework of these alternatives, the LEIS will support Congressional action by identifying and evaluating potential impacts to land use, airspace, safety, noise, hazardous materials and solid waste, earth resources, water resources, air quality, transportation, wilderness and wilderness study areas, cultural resources, biological resources, socioeconomics, and environmental justice.

Henry Williams,
Acting Air Force Federal Register Officer.

[FR Doc. 2016-20401 Filed 8-24-16; 8:45 am]

BILLING CODE 5001-10-P